DEPARTMENT OF AGRICULTURE

Rural Utilities Service

[Docket #: RUS-23-WATER-0013]

Notice of Funding Opportunity for Calendar Year 2022 Disaster Circuit Rider Technical Assistance Grants Program; Water and Environmental Programs

AGENCY: Rural Utilities Service, USDA.

ACTION: Notice.

SUMMARY: The Rural Utilities Service (RUS or the Agency), a Rural Development (RD) mission area of the United States Department of Agriculture (USDA), announces acceptance of applications under the Calendar Year (CY) 2022 Disaster Circuit Rider Technical Assistance (CY 2022 Disaster CRTA) Grants Program. The Agency will have up to $8,000,000 in grant funding provided through the Disaster Relief Supplemental Appropriations Act, 2023. Grant funds will be made available to qualified organizations to provide technical assistance on a national basis to rural communities and federally recognized tribes with water infrastructure systems damaged by CY 2022 Presidentially declared disasters. Purposes include supporting eligible communities, including federally recognized tribes, identified through the Presidential disaster declarations by providing on-site technical assistance to support post-disaster mitigation of eligible events, to identify and evaluate solutions to impacted water, wastewater, stormwater and solid waste challenges, help communities develop and prepare applications for water and waste loans and grants, deliver training and other resources to operators, managers, and other system personnel, and pay certain expenses associated with the provision of such services. Applicants are responsible for any expenses incurred in developing their application.

DATES: Electronic applications must be submitted between September 28, 2023 and 11:59 p.m. Eastern Time on October 30, 2023. Late or incomplete applications will not be accepted.

ADDRESSES: Applications and supporting information must be submitted electronically through Grants.gov via https://www.grants.gov. Instructions and additional resources, to include an application guide, are available at https://www.rd.usda.gov/programs-services/water-environmental-programs/calendar-year-2022-disaster-circuit-rider-technical-assistance-grants-program under the “To Apply” tab.

FOR FURTHER INFORMATION CONTACT: Penny Douglas, Grant Manager, Water and Environmental Programs, RUS, USDA, by phone at (202) 253-0504 or by email at Water-RD@usda.gov.

SUPPLEMENTARY INFORMATION:

Overview

Federal Awarding Agency Name: Rural Utilities Service.

Funding Opportunity Title: Calendar Year 2022 Disaster Circuit Rider Technical Assistance Grants Program.

Announcement Type: Notice of Funding Opportunity (NOFO).

Funding Opportunity Number: RD-RUS-CY22DisasterCRTA.

Assistance Listing: 10.761, Technical Assistance and Training Grants.

Dates: Completed electronic applications must be submitted through www.grants.gov between September 28, 2023 and 11:59 p.m. Eastern Time on October 30, 2023. Late or incomplete applications will not be accepted.

Rural Development Key Priorities: The Agency encourages applicants to consider projects that will advance the following key priorities:

• Assisting rural communities recover economically through more and better market opportunities and through improved infrastructure;

• Ensuring all rural residents have equitable access to RD programs and benefits from RD funded projects; and

• Reducing climate pollution and increasing resilience to the impacts of climate change through economic support to rural communities.

A. Program Description

1. Purpose of the Program. The CY 2022 Disaster CRTA Grants Program is designed to award funding to qualified organizations that will provide technical assistance on a national basis to water, wastewater, stormwater, and solid waste systems in rural areas with populations of up to 35,000. Grant funds must be used to support water infrastructure systems damaged by Presidentially declared disasters in CY 2022. Eligible uses of funds include providing on-site technical assistance to support post-disaster mitigation of eligible events, to identify and evaluate solutions to water, wastewater, stormwater, and solid waste challenges, help communities develop and prepare applications for water and waste loans and grants, deliver training and other resources to operators, managers, and other system personnel, and pay certain expenses associated with the provision of such services. For the most current list of Presidentially declared disasters, visit the United States (U.S.) Department of Homeland Security, Federal Emergency Management Agency (FEMA) website at: https://www.fema.gov/disaster/declarations.

2. Statutory and Regulatory Authority. The CY22 CRTA Grants Program is authorized pursuant to section 306(a)(22) of the Consolidated Farm and Rural Development Act (Pub. L. 87-128); Division N of the Consolidated Appropriations Act, 2023 (Pub. L. 117-328); and 2 CFR parts 200 and 400, Uniform and Administrative Requirements, Cost Principles, and Audit Requirements for Federal Awards. This program is implemented under the provisions of 7 CFR 1775, Technical Assistance Grants, Subpart A, General Provisions, and B, Grant Application Processing, and this NOFO. Other federal statutes and regulations are listed at 7 CFR 1775.8, Other Federal statutes.

3. Definitions. The definitions applicable to this notice are published at 7 CFR 1775.2, Definitions, and this Notice. The terms and conditions provided in this Notice are applicable to and for purposes of this Notice only. This Notice takes precedence related to any definition found both within both 7 CFR 1775 and this Notice.

Actual Capacity. Possess the necessary resources to provide technical assistance to water infrastructure systems through its own staff or be assisted by an affiliate or member organization which has such background and experience, and which agrees in writing that it will provide the assistance for the duration of the grant performance period, or contract with a nonaffiliated organization for not more than 49 percent of the grant to provide the proposed assistance.

Affiliated Organization. A company that is related to another company, usually by being in the position of a member or a subordinate role (must be verified by organizational documentation). Two companies may be affiliated if one company has control over the other or if both are controlled by a third company. One corporation can be affiliated with another corporation by shareholdings, by holding a minority interest, or one corporation might be a subsidiary of another.

Agency. RUS or its successors, and the USDA RD employees acting on behalf of RUS in accordance with the appropriate delegations of authority.

Calendar Year 2022. The dates beginning January 1, 2022, and ending December 31, 2022.

Federally Recognized Tribe. Any Indian or Alaska Native tribe, band, nation, pueblo, village or community as defined by the Federally Recognized Indian Tribe List Act (List Act) of 1994 (Pub. L. 103-454).

Prefabricated Homes Communities. Mobile, manufactured, and modular homes that share a private public water and/or sewer system.

Presidentially Declared Disaster. A declaration made in accordance with applicable statues by the President that a disaster exists, necessitating assistance in the recovery of the impacted area.

Rural or Rural Area. Any area in a city, town, or unincorporated area with a population not in excess of 35,000 inhabitants, according to the latest Agency-implemented decennial census of the United States. The population of the community is as adjusted by the exclusion of individuals incarcerated on a long-term or regional basis, and the exclusion of the first 1,500 individuals who reside in housing located on a military base. The area to be served may be made up of combinations of these eligible areas. If the applicable population figure cannot be obtained from the most recent decennial Census, RUS will determine the applicable population figure based on available population data. Facilities receiving technical assistance under this grant program may be located in non-rural areas. However, funds may be used to benefit only that portion of the facility serving rural areas, regardless of facility location.

4. Application of Awards. The Agency will review, evaluate, and score applications received in response to this Notice as indicated here and with further clarification found in the CY 2022 Disaster CRTA Grants Program Application Guide. Awards under the CY 2022 Disaster CRTA Grants Program will be made on a competitive basis using specific selection criteria contained in the Notice and further detailed in the Application Guide. The Agency advises all interested parties that the applicant bears the full burden in preparing and submitting an application in response to this notice.

B. Federal Award Information

Type of Award: Grant.

Fiscal Year Funds: FY 2023.

Available Funds: Up to $8,000,000. RUS may at its discretion increase the total level of funding available in this funding round from any available source provided the awards meet the requirements of the statute which made the funding available to the Agency.

Award Amounts: No minimum or maximum award amount.

Anticipated Award Date: September 30, 2023.

Performance Period: Projects begin as denoted in the Grant Agreement and may go up to 24 months. Applicant must reference the performance period in its project narrative.

Renewal or Supplemental Awards: This is a new program; no prior grants have been awarded under the CY 2022 CRTA Grants Program.

Type of Assistance Instrument: Grant Agreement.

C. Eligibility Information

1. Eligible Applicants. CY 2022 Disaster CRTA grant funding is available to associations, including corporations not operated for profit, Indian tribes on Federal and State reservations and other federally recognized Indian tribes, and public and quasi-public agencies. Additionally, an applicant must:

(a) Be legally established prior to submitting the application and be located within a State as defined in § 1775.2, and

(b) Possess and document legal authority to receive and administer a federal award, and to provide the proposed technical assistance on a national basis, to eligible communities, including federally recognized tribes, and

(c) Document proven technical, managerial and financial capacity and experience to carry out the objectives of this program and to comply with state and federal laws and regulations, as evidenced by the applicant's satisfactory accomplishment of technical assistance similar to that proposed, and

(d) Have no delinquent debt to the federal government or outstanding judgments to repay a federal debt, and

(e) Not be a corporation that has been convicted of a felony or had an officer or agent acting on behalf of the corporation convicted of a felony, within the past 24 months. Any corporation that has any unpaid federal tax liability that has been assessed, for which all judicial and administrative remedies have been exhausted or have lapsed, and that is not being paid in a timely manner pursuant to an agreement with the authority responsible for collecting the tax liability is not eligible.

2. Eligible Grant Purposes. Technical assistance that may be provided to eligible communities, including federally recognized tribes, through the CY 2022 Disaster CRTA Grants program includes:

(a) Short-term disaster and emergency assistance, including on-site technical assistance and troubleshooting;

(b) Identifying and evaluating long-term solutions, inclusive of Risk and Resilience Assessments, Emergency Response Plans, and other planning documentation;

(c) Providing training and other resources to operators and management; and,

(d) Application development, including any technical work such as feasibility, engineering, and environmental reports.

(e) Certain other technical assistance efforts that support the resiliency and capacity of eligible systems.

3. Cost Sharing or Matching. No cost sharing or matching requirement is associated with this grant.

D. Application and Submission Information

1. Address to Request Application Package. Application information is available at www.grants.gov and https://www.rd.usda.gov/programs-services/water-environmental-programs/calendar-year-2022-disaster-circuit-rider-technical-assistance-grants-program.

2. Content and Form of Application Submission. To be considered for funding, applicants must meet the eligibility criteria outlined in this notice and must submit a complete application by the deadline date. Applicants should consult the cost principles and general administrative requirements found in 2 CFR part 200 for grants pertaining to their organizational type to prepare the budget and complete other parts of the application. Applications should be prepared in conformance with program regulations, and departmental and other applicable regulations including 2 CFR parts 180, 182, 200, 400, 417, 418, and 421, or any successor regulations.

Applications should be prepared in accordance with the requirements of this Notice, further elaborated on in the CY 2022 Disaster CRTA Grants Application Guide (Application Guide). The Application Guide provides specific, detailed instructions for each item of a complete application. The Agency emphasizes the importance of including every item and strongly encourages applicants to follow the instructions carefully, using examples and illustrations in the Application Guide. Applicants should ensure they are using the most updated version of the application guide before submitting an application. Any updates to the application guide will be posted at www.Grants.gov and https://www.rd.usda.gov/programs-services/water-environmental-programs/calendar-year-2022-disaster-circuit-rider-technical-assistance-grants-program. The items at 7 CFR 1775.10(c)(3), (4), and (5) are no longer required to be separately submitted as part of the application, as they are covered under the Financial Assistance General Certifications and Representations referenced in item 3(c) of this notice.

3. System for Award Management and Unique Entity Identifier.

(a) At the time of application, each applicant must have an active registration in the System for Award Management (SAM) before submitting its application in accordance with 2 CFR part 25. In order to register in SAM, entities will be required to obtain a Unique Entity Identifier (UEI). Instructions for obtaining the UEI are available at https://sam.gov/content/entity-registration.

(b) Applicant must maintain an active SAM registration, with current, accurate and complete information, at all times during which it has an active Federal award or an application under consideration by a Federal awarding agency.

(c) Applicant must ensure the Financial Assistance General Certifications and Representations are completed in SAM.

(d) Applicant must provide a valid UEI in its application, unless determined exempt under 2 CFR 25.110.

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times. Completed applications must be submitted through www.grants.gov between September 28, 2023 and 11:59 p.m. Eastern Time on October 30, 2023. Late or incomplete applications will not be accepted. If the submission deadline falls on Saturday, Sunday, or a Federal holiday, the application is due the next business day.

The Agency will not solicit or consider new scoring or eligibility information that is submitted after the application deadline. RUS also reserves the right to ask applicants for clarifying information and additional verification of assertions in the application.

5. Intergovernmental Review. Executive Order (E.O.) 12372, Intergovernmental Review of Federal Programs, does not apply to this program.

6. Funding Restrictions. Applications must be for eligible purposes as defined above, and in consideration of any restrictions found within 7 CFR 1775.5, Limitations and this Notice. Funds under this program must be used to address impacts from Presidentially declared disasters that occurred in Calendar Year 2022.

7. Other Submission Requirements.

Applications must be submitted electronically through https://www.Grants.gov. RUS may request original signatures later for any electronically signed documents. All electronic documents must be submitted in Excel, Word, or PDF format. If system errors or technical difficulties occur, use the customer support resources available at the Grants.gov website.

E. Application Review Information

1. Criteria. All applications that are complete and eligible will be scored and ranked competitively. The categories for scoring criteria used are the following:

(a) Applicant's Experience: Experience level in developing and implementing successful technical assistance or training programs similar to the proposed project (up to 15 points).

More than ten years (15 points)

Six to ten years (10 points)

Up to five years (5 points)

No experience (0 points)

(b) Applicant's Actual Capacity: Use of grant funds for grantee's staff versus contract personnel to carry out the technical assistance or training (up to 15 points).

At least 75 percent staff (15 points)

50 percent to 74.99 percent staff (10 points)

Fewer than 50 percent staff (0 points)

(c) Population of the proposed area or areas to be served—based on the 2010 U.S. Census, available at this link: https://go.usa.gov/xMwbH (up to 15 points).

Fewer than 5,500 (15 points)

5,500 to 9,999 (10 points)

10,000 or more (0 points)

(d) Application Development. Technical Assistance is for pre-development or activities related to an application filed under the CY 2022 Disaster Water Grant Program (RD-RUS-CY22DISASTER available at https://www.grants.gov/web/grants/view-opportunity.html?oppId=348809). (up to 15 points)

(e) Needs assessment. Clearly addresses and defines the need(s) and is supported by data. (up to 10 points)

(f) Goals and objectives. Establishes and defines clear measurable goals and objectives, which are tied to the need as defined in the Needs Assessment. (up to 10 points)

(g) Work Plan. Clearly articulates a well-thought-out approach to accomplishing objectives and clearly identifies who will be benefitted by the technical assistance. Includes a timeframe for completing the goals and objectives. (up to 30 points possible)

(h) Evaluation Methods. Outlines evaluation method(s) specific to each activity, which are clearly defined, measurable, and stipulate expected project outcome(s. (up to 10 points)

(i) Administrative Discretionary Points. In order to be considered for Administrator Discretionary Points, the applicant must provide adequate documentation to address that the project is located in a Disadvantaged Community or a Distressed Community. A Disadvantaged Community will be determined by the Agency by using the Council on Environmental Quality's Climate and Economic Justice Screening Tool (which is incorporated into the USDA look-up map) which identifies communities burdened by climate change and environmental injustice. Additionally, all communities within the boundaries of Federally Recognized Tribes and Alaska Native Villages will also be determined to be Disadvantaged Communities by the Agency. A Distressed Community will be determined by the Agency by using the Economic Innovation Group's Distressed Communities Index (which is incorporated into the USDA look-up map), which uses several socio-economic measures to identify communities with low economic well-being. To determine if your project is located in a Disadvantaged Community or a Distressed Community, please use the following USDA look-up map: https://ruraldevelopment.maps.arcgis.com/apps/webappviewer/index.html?id=4acf083be4c44bb7864d90f97de0c788. The Administrator Discretionary Points will be awarded solely on these criteria. (15 points)

2. Review and Selection Process. RUS will acknowledge the application's receipt via an email to the applicant within 30 days of the closing of the application window. The following actions will be taken:

(a) Incomplete or ineligible applications as of the deadline for submission will not be considered. If an application is determined to be incomplete or ineligible, the applicant will be notified in writing.

(b) Complete, eligible applications will be evaluated competitively by a review team, composed of at least three RUS employees. They will make overall recommendations based on the program elements found in 7 CFR part 1775 and this Notice, including review criteria presented in Section E above. They will award points as described in the scoring criterion within this notice. Each application will receive a score based on the averages of the reviewers' scores and discretionary points awarded by the RUS Administrator. RUS reserves the right to request additional information once an application is determined to be complete to minimize the risk of duplication of other federal efforts.

(c) Applications will be ranked, and grants awarded based upon the scoring results and funding availability. RUS reserves the right to offer the applicant less than the grant funding requested. At RUS's discretion, projects scoring too low may not be awarded funding even if funding remains available.

(d) Regardless of the score an application receives, if RUS determines that the project is technically infeasible, RUS will notify the applicant, in writing, and no further action will be taken.

F. Federal Award Administration Information

1. Federal Award Notices

(a) Application Outcomes. There are four possible outcomes following the submission of an application under the CY 2022 Disaster CRTA Grant Program. RUS reserves the right to make no grant awards if all applications are ineligible, incomplete or do not meet the established program objectives and priorities. RUS may determine that the application is:

(1) Eligible and selected for funding at the requested amount,

(2) Eligible but offered fewer funds than requested,

(3) Eligible but not selected for funding, or

(4) Ineligible for the grant.

(b) Award Notices. Applicants selected for funding will be sent an award letter, accompanied by a grant agreement, which outlines the terms and conditions of the award, and other applicable documents. Pursuant to the grant agreement, grant funds may be released over the course of the grant period in reimbursement for the performance of eligible, approved activities which do not duplicate similar federal efforts or tasks. The grant agreement may also include reporting and pre-approval requirements which if not met, may result in a delay in reimbursement, disallowance of expense, or a suspension of the grant.

(c) Payments/Reimbursements. Grantees will be reimbursed as delineated at 7 CFR 1775.18, this Notice, and the Grant Agreement.

(d) Scope of Services. Any change in the scope of the project, budget adjustments of more than 10 percent, or other modifications must get written prior approval in accordance with 7 CFR 1775.19, this Notice, and the Grant Agreement.

(e) Prevailing Wages. All laborers, apprentices and mechanics employed by contractors and subcontractors on projects funded directly by or assisted in whole or in part by and through the Federal Government pursuant to this Act shall be paid wages at rates not less than those prevailing on projects of a character similar in the locality as determined by the Secretary of Labor in accordance with United States Code, Title 40, Chapter 31, Subchapter IV (also known as the Davis-Bacon Act). Further details on eligible applicants and projects may be found in the relevant regulations listed in Section C of this Notice.

2. Administrative and National Policy Requirements. This Notice is subject to the terms and requirements of Departmental and other regulations, including 2 CFR parts 180, 182, 200, 400, 417, 418, 421 and any successor regulations implementing the appropriate administrative and national policy requirements.

3. Reporting. Performance reporting, including applicable forms, narratives, and other documentation, are to be completed and submitted in accordance with the provisions of 7 CFR 1775.20, this Notice, and the Grant Agreement. Further, all grantees must submit an audit or financial information covering the defined period of performance as outlined in 7 CFR 1775.21, this Notice, and the Grant Agreement.

G. Federal Awarding Agency Contacts

For general questions about this notice please see point of contact listed in For Further Information Contact section of this notice.

H. Other Information

1. Paperwork Reduction Act. In accordance with the Paperwork Reduction Act of 1995 (44 U.S.C. chapter 35), the information collection requirements associated with this program, as covered in this notice, have been approved by the Office of Management and Budget (OMB) under OMB Control Number 0572-0138.

2. National Environmental Policy Act. All recipients under this notice are subject to the requirements of 7 CFR part 1970. However, awards for technical assistance under this notice are classified as a Categorical Exclusion in accordance with 7 CFR 1970.53(b), and usually do not require any additional documentation. RUS will review each grant application to determine its compliance with 7 CFR part 1970. The applicant may be asked to provide additional information or documentation to assist RUS with this determination.

3. Federal Funding Accountability and Transparency Act. All applicants, in accordance with 2 CFR part 25, must be registered in SAM and have a UEI number as stated in Section D.3 of this notice. All recipients of Federal financial assistance are required to report information about first-tier sub-awards and executive total compensation in accordance with 2 CFR part 170.

4. Civil Rights Act. All grants made under this notice are subject to Title VI of the Civil Rights Act of 1964 as required by USDA (7 CFR part 15 subpart A, Nondiscrimination in Federally-Assisted Programs of the Department of Agriculture, which is the effectuation of title VI of the Civil Rights Act of 1964) and section 504 of the Rehabilitation Act of 1973, title VIII of the Civil Rights Act of 1968, title IX of the Education Amendments Act of 1972, Executive Order 13166 (Limited English Proficiency), Executive Order 11246 (Equal Employment Opportunity), and the Equal Credit Opportunity Act of 1974.

5. Nondiscrimination Statement. In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office, or the 711 Relay Service.

To file a program discrimination complaint, a complainant should complete a Form AD-3027, USDA Program Discrimination Complaint Form, which can be obtained online at https://www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation.

The completed Form AD-3027 or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Christopher A. McLean,
Acting Administrator, Rural Utilities Service, USDA Rural Development.

[FR Doc. 2023-21129 Filed 9-27-23; 8:45 am]

BILLING CODE 3410-15-P